DEPARTMENT OF THE INTERIOR

Bureau of Land Management

[CA-610-01-1610-DE]

Notice of Availability of the Draft Northern and Eastern Mojave Plan Amendments and Environmental Impact Statement

AGENCY: Bureau of Land Management, Department of the Interior, California Desert District, Riverside, California.

SUMMARY: Notice is hereby given that the Draft Northern and Eastern Mojave Plan Amendments and Environmental Impact Statement is available for public review and comment. The Draft Plan Amendments and EIS will amend BLM's 1980 California Desert Conservation Area Plan. The Draft Plan Amendments and EIS identify and describe the probable impacts to the 2.4 million acres of BLM-managed lands that would result from the proposed amendments to the California Desert Conservation Area Plan. The Draft Plan Amendments and EIS also will provide for strategic, comprehensive management, including a programmatic biological opinion for the desert tortoise, provide for recovery of other threatened or endangered species, and in particular the Amargosa vole, Amargosa niterwort and gumplant, reduce the need for further species listings, and streamline the processing of land-use permits.

SUPPLEMENTARY INFORMATION: Copies of the Draft Plan Amendments and EIS have been mailed to those who submitted comments or expressed interest during public scoping and the development of the Draft Plan Amendments and EIS. Those who requested an electronic format were mailed a bound/CD-ROM copy. Printed or electronic copies of the Draft Plan Amendments and EIS are available upon request from the BLM offices listed below. The Draft Plan Amendments and EIS are also available online at http://www.ca.blm.gov/cdd/landuseplanning.html. Reading copies are available at most local libraries and the following BLM offices:

BLM California Desert District Office, 1621 Box Springs Blvd., Riverside, CA; (909) 697-5200

BLM Barstow Field Office, 2601 Barstow Road, Barstow, CA; (760) 252-6000

BLM Needles Field Office, 101 West Spikes Road, Needles, CA; (760) 326-7000

BLM Ridgecrest Field Office, 300 South Richmond Road, Ridgecrest, CA; (760) 384-5400

DATES: The 90-day public review and comment period for the Draft Plan Amendments and EIS will begin with publication in the Federal Register. Written statements on the Draft Plan Amendments and EIS must be submitted or postmarked no later than 90 days after notice in the Federal Register.

ADDRESSES: Comments on the document should be mailed to the Bureau of Land Management, Attn: Northern and Eastern Mojave Plan, 2601 Barstow Road, Barstow, CA 92311. Comments on the Draft Plan Amendments and the adequacy of the EIS will be considered in preparing the Proposed Plan Amendments and Final EIS. Public meetings will also be held in various cities in and around the planning area to receive comments. The dates and times of these meetings will be announced later.

Background Information

Development of the Draft Plan Amendments and the EIS began with scoping meetings held in conjunction with the National Park Service which is conducting concurrent planning efforts on adjacent lands. The Northern and Eastern Mojave Planning Area covers 3.3 million acres of land in the southeastern California Desert of which 2.4 million acres are public lands. This document describes and analyzes a number of alternatives for managing species and habitats on public lands administered by the BLM. Issues identified during public scoping included (1) recovery of threatened and endangered species, including the desert tortoise, the Amargosa vole, the Amargosa niterwort, the Ash Meadows Gumplant and spring-loving Centaury (threatened); (2) maintenance of public access through the NEMO planning area which includes sensitive areas, is surrounded by two national park units and two large military bases, and includes all or parts of twenty-four wilderness and eight wilderness study areas; (3) addressing impacts to other land uses; and (4) protection of County tax base.

FOR FURTHER INFORMATION CONTACT: Edythe Seehafer, NEMO Project Manager, Barstow Field Office, 2601 Barstow Road, Barstow, California 92311; Telephone (760) 252-6021.

Dated: March 22, 2001.
Tim Salt,
District Manager.

[FR Doc. 01-8213 Filed 4-3-01; 8:45 am]

BILLING CODE 4310-84-U